SURFACE TRANSPORTATION BOARD

[Docket No. FD 36667]

McKees Rocks Railroad LLC—Acquisition and Operation Exemption—Pittsburgh, Allegheny & McKees Rocks Railroad Company

McKees Rocks Railroad LLC (McKees Rocks), a noncarrier, has filed a verified notice of exemption under 49 CFR 1150.31 to acquire and operate approximately 3.36 miles of rail line ¹ owned by Pittsburgh, Allegheny & McKees Rocks Railroad Company (PAM) and its parent company, McKees Rocks Industrial Enterprises, Inc. (MRIE),² located at McKees Rocks, in Allegheny County, Pa. (the Line), as well as yard tracks and sidings.

¹ McKees Rocks states that the track does not have mileposts.

² According to the verified notice, PAM owns the trackage and MRIE owns the underlying real estate.

According to the verified notice, McKees Rocks and PAM/MRIE have reached an agreement in principle pursuant to which McKees Rocks, with the support of its parent company, SunCap Property Group, will acquire the Line and redevelop PAM's former McKees Rocks, Pa. facility. The verified notice indicates that McKees Rocks does not plan on operating the Line itself, but rather intends to contract with a third-party operator should future lessees at the McKees Rocks, Pa. facility request service.

According to McKees Rocks, the proposed transaction does not contain an interchange commitment. McKees Rocks certifies that its projected annual revenues resulting from the transaction will not exceed $5 million and will not result in McKees Rocks' becoming a Class I or Class II rail carrier.

The earliest this transaction may be consummated is March 4, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 24, 2023 (at least seven days before the exemption becomes effective).

All pleadings, referring to Docket No. FD 36667, must be filed with the Surface Transportation Board either via e-filing on the Board's website or in writing addressed to 395 E Street SW, Washington, DC 20423-0001. In addition, a copy of each pleading must be served on McKees Rocks' representative, William A. Mullins, Baker & Miller PLLC, 2401 Pennsylvania Ave. NW, Suite 300, Washington, DC 20037.

According to McKees Rocks, this action is categorically excluded from environmental review under 49 CFR 1105.6(c) and from historic preservation reporting requirements under 49 CFR 1105.8(b).

Board decisions and notices are available at www.stb.gov.

Decided: February 14, 2023.
By the Board, Mai T. Dinh, Director, Office of Proceedings.
Andrea Pope-Matheson,
Clearance Clerk.

[FR Doc. 2023-03471 Filed 2-16-23; 8:45 am]

BILLING CODE 4915-01-P